SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: January 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects described below, pursuant to 18 CFR part 806, subpart E, for the time period specified above:

1. Penn-View, Inc.—Wyncote Golf Club, GF Certificate No. GF-202303243, Lower Oxford Township, Chester County, Pa.; On-site Well; Issue Date: March 6, 2023.

2. Red Hill Farms, Inc., GF Certificate No. GF-202303244, Various Municipalities and Counties, Pa.; see Addendum; Issue Date: March 6, 2023.

3. Ski Roundtop Operating Corp—Roundtop Mountain Resort, GF Certificate No. GF-202303245, Warrington Township, York County, Pa.; Well 1; Issue Date: March 6, 2023.

4. Village of South Corning—Public Water Supply System, GF Certificate No. GF-202303246, Village of South Corning, Steuben County, N.Y.; Well 1; Issue Date: March 6, 2023.

5. Strasburg Lancaster County Borough Authority—Public Water Supply System, GF Certificate No. GF-202303247, Paradise and Strasburg Townships, Lancaster County, Pa.; combined withdrawal from the King Well and Rohrer Well; Issue Date: March 14, 2023.

6. Knouse Foods Cooperative, Inc.—Peach Glen Plant, GF Certificate No. GF-202303248, Tyrone and Huntingdon Townships, Adams County, and Dickinson Township, Cumberland County, Pa.; combined withdrawal from Wells 2, 4, 5, 7, 8, 9, 10, and 13 and Well 13; Issue Date: March 16, 2023.

Authority: Public Law 91-575, 84 Stat. 1509 et seq., 18 CFR parts 806 and 808.

Dated: April 7, 2023.
Jason E. Oyler,
General Counsel and Secretary to the Commission.

[FR Doc. 2023-07665 Filed 4-11-23; 8:45 am]

BILLING CODE 7040-01-P